NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 74 FR 27829, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Comments regarding this information collection are best assured of having their full effect if received within 30 days of this notification. Copies of the submission(s) may be obtained by calling 703-292-7556.

FOR FURTHER INFORMATION CONTACT: Suzanne H. Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Request for Clearance for Program Review of the Science and Technology Centers (STC): Integrative Partnership Program.

Title of Collection: Program Review of the National Science Foundation's (NSF) Science and Technology Centers: Integrative Partnership Program.

OMB Control No.: 3145-(NEW)

Abstract:

The National Science Foundation (NSF) requests a three-year clearance for research, evaluation and data collection (e.g. surveys and interviews) from graduate student and postdoctoral participants in the Science and Technology Centers: Integrative Partnerships (STC) Program. Other STC stakeholders typically are limited to PhD scientists and engineers and faculty and administrators from universities and not-for-profit institutions and industrial/business partners, NSF employees and former NSF employees and intergovernmental personnel act (IPA) appointees.

The STC program provides multiyear (up to ten years) support to STCs as continuing awards that are among the largest (up to $4 million a year) awarded by the National Science Foundation (NSF). This support fuels innovation and builds intellectual and physical infrastructure within and among disciplines in the integrative conduct of research, education, and knowledge transfer. The STC program currently funds a total of 17 Centers—five beginning in 2000, six beginning in 2002, two beginning in 2005, and four beginning in 2006. STCs conduct world-class research through partnerships among academic institutions, national laboratories, industrial organizations, and/or other public/private entities, and via international collaborations, as appropriate. STCs enable and foster excellence in education, the integration of research and education, and the creation of bonds between learning and inquiry so that discovery and creativity more fully support the learning process. In addition, STCs capitalize on diversity through participation in Center activities and demonstrate leadership in the involvement of groups underrepresented in science and engineering.

Based on prior evaluations of the program, the National Science Board (NSB) approved the continuation of Science and Technology Centers through the establishment of new program solicitations and several new competitions. As part of the continuation, the NSB required the program to conduct a program evaluation of the outcomes and impact of the program seven years after the first new cohort of Centers were established (Memorandum to Members of the National Science Board, February 13, 1997).

A related data collection effort that consists of general grantee reporting is approved for program monitoring under OMB 3145-0194. To enable effective oversight of its investment, the NSF requires that each currently funded Center submit an annual progress report that describes all activities of the Center; each existing Center began submitting an annual report at the end of its first year. While a database of Centers' characteristics, activities, and outcomes has been created using data from these annual reports, supplemental information is required to fulfill the evaluative needs of the program.

NSF has planned a new program review of STC, and has contracted with Abt Associates Inc. to provide for analytic and technical support, to include data collection and analysis, for an expert peer review of the program. To help fulfill the evaluation needs of the program, NSF has planned to collect data that is designed to explore the structures and processes the STCs and their participating universities have in place for developing the human capital of program participants and for fostering a variety of career paths. The primary methods of data collection will include data gathering from open sources and from records at NSF and grantee centers and from surveys of program participants. There are a bounded (or limited) number of respondents within the general public who will be affected by this research, including former graduate student and postdoctoral fellow participants of the centers. NSF will use the STC program evaluation data and analyses to provide members of an expert peer review panel with information about the program's role in the talent development and on the career paths taken by students who participated in STCs and were involved in particular STC activities.

Respondents: Individuals or households, Federal Government, and not-for-profit institutions.

Estimated Number of Respondents: 1,700.

Burden on the Public: 850 hours.

Dated: December 3, 2009.
Suzanne H. Plimpton,
Reports Clearance Officer, National Science Foundation.

[FR Doc. E9-29221 Filed 12-7-09; 8:45 am]

BILLING CODE 7555-01-P